DEPARTMENT OF TRANSPORTATION

Federal Aviation Administration

14 CFR Part 71

[Docket No. FAA-2012-1303; Airspace Docket No. 12-ANM-29]

Amendment of Class E Airspace; Salt Lake City, UT

AGENCY: Federal Aviation Administration (FAA), DOT.

ACTION: Final rule.

SUMMARY: This action modifies Class E airspace at Salt Lake City, UT, to accommodate aircraft using Area Navigation (RNAV) Global Positioning System (GPS) and Instrument Landing System (ILS) or Localizer (LOC) standard instrument approach procedures at Salt Lake City International Airport. This improves the safety and management of Instrument Flight Rules (IFR) operations at the airport. This action also adjusts the geographic coordinates of the airport, and makes a minor change to the legal description of Class E airspace extending upward from 1,200 feet above the surface, at Salt Lake City, UT.

DATES: Effective date, 0901 UTC, October 17, 2013. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA, 98057; telephone (425) 203-4537.

SUPPLEMENTARY INFORMATION:

History

On May 13, 2013, the FAA published in the Federal Register a notice of proposed rulemaking (NPRM) to modify controlled airspace at Salt Lake City, UT (78 FR 27872). Interested parties were invited to participate in this rulemaking effort by submitting written comments on the proposal to the FAA. No comments were received.

Subsequent to publication, the FAA's Aeronautical Products Office requested the phrase in the regulatory text “. . . excluding that portion within Restricted Area R-6403.” be moved from the 13,500 foot airspace and incorporated into the 1,200 foot airspace. With the exception of editorial changes and the changes described above, this rule is the same as that proposed in the NPRM.

Class E airspace designations are published in paragraph 6005, of FAA Order 7400.9W dated August 8, 2012, and effective September 15, 2012, which is incorporated by reference in 14 CFR 71.1. The Class E airspace designations listed in this document will be published subsequently in that Order.

The Rule

This action amends Title 14 Code of Federal Regulations (14 CFR) Part 71 by modifying Class E airspace extending upward from 700 feet above the surface, at Salt Lake City International Airport, Salt Lake City, UT, to accommodate IFR aircraft executing RNAV (GPS) and ILS or LOC standard instrument approach procedures at the airport. This action removes reference to the exclusion of the Price, UT; Delta, UT; and Evanston, WY, airspace area, and the Bonneville, UT 1,200 foot Class E airspace area, and enhances the safety and management of aircraft operations at the airport. The geographic coordinates of the airport are adjusted in accordance with the FAA's aeronautical database.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Salt Lake City International Airport, Salt Lake City, UT.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012 is amended as follows:

Paragraph 6005 Class E airspace areas extending upward from 700 feet or more above the surface of the earth.

* * * * *

ANM UT E5 Salt Lake City, UT [Modified]

Salt Lake City International Airport, UT

(Lat. 40°47′18″ N., long. 111°58′40″ W.)

That airspace extending upward from 700 feet above the surface bounded by a line beginning at lat. 41°00′00″ N., long. 111°45′03″ W.; to lat. 40°22′30″ N., long. 111°45′03″ W.; to lat. 40°10′20″ N., long. 111°35′03″ W.; to lat. 40°03′30″ N., long. 111°48′33″ W.; to lat. 40°03′00″ N., long. 112°05′00″ W.; to lat. 40°25′00″ N., long. 112°06′30″ W.; to lat. 40°43′00″ N. long. 112°22′03″ W.; to lat. 41°00′00″ N., long. 112°22′03″ W., thence to the point of beginning; that airspace extending upward from 1,200 feet above the surface bounded on the north by lat. 41°00′00″ N., on the east by long. 111°25′33″ W., thence south to lat. 40°11′00″ N., thence east to lat. 40°06′00″ N., long. 110°15′00″ W., thence southwest to lat. 39°33′00″ N., long. 110°55′00″ W., thence southwest to lat. 39°04′00″ N., long. 112°27′30″ W., thence northwest to lat. 39°48′00″ N., long. 112°50′00″ W., thence west via lat. 39°48′00″ N., to the east edge of Restricted Area R-6402A, and on the west by the east edge of Restricted Area R-6402A, R-6402B and R-6406A and long. 113°00′03″ W., excluding that portion within Restricted Area R-6403; that airspace east of Salt Lake City extending upward from 11,000 feet MSL bounded on the northwest by the southeast edge of V-32, on the southeast by the northwest edge of V-235, on the southwest by the northeast edge of V-101 and on the west by long. 111°25′33″ W.; that airspace southeast of Salt Lake City extending upward from 13,500 feet MSL bounded on the northeast by the southwest edge of V-484, on the south by the north edge of V-200 and on the west by long. 111°25′33″ W.

Issued in Seattle, Washington, on July 22, 2013.
Christopher Ramirez,
Acting Manager, Operations Support Group, Western Service Center.

[FR Doc. 2013-18141 Filed 7-29-13; 8:45 am]

BILLING CODE 4910-13-P